DEPARTMENT OF ENERGY

Federal Energy Regulatory Commission

Notice of Commission Staff Attendance at North American Electric Reliability Corporation Meetings From January-June 2010

January 21, 2010.

The Federal Energy Regulatory Commission hereby gives notice that members of the Commission and Commission staff may attend the following NERC related meetings:

• NERC Planning Committee Meetings and its sub-committee meetings.

○ Tuesday—Wednesday, March 16-17, 2010 (TBD).

○ Tuesday—Wednesday, June 15-16, 2010 (TBD).

• NERC Operating Committee Meetings and its sub-committee meetings.

○ Tuesday—Wednesday, March 16-17, 2010 (TBD).

○ Tuesday—Wednesday, June 15-16, 2010 (TBD).

• NERC Standards Committee Meetings and its sub-committee meetings.

○ Wednesday—Thursday, January 13-14, 2010 Phoenix, AZ (2).

○ Thursday, February 11, 2010 Teleconference (1).

○ Thursday, March 11, 2010 Teleconference (1).

○ Wednesday-Thursday, April 14-15, 2010 Tampa, FL (TBD).

○ Thursday, May 13, 2010 Teleconference (1).

○ Thursday, June 10, 2010 Teleconference (1).

• NERC Member Representative Committee Meetings and its sub-committee meetings.

○ TBD.

• NERC Board of Trustees Meetings and its sub-committee meetings.

○ Monday, February 15, 2010 Phoenix, AZ (3).

○ Tuesday—Wednesday, May 11-12, 2010 Baltimore, MD (4).

• NERC Finance and Audit Committee Meetings.

○ TBD.

• Critical Infrastructure Protection Committee Quarterly Meetings and its sub-committee meetings.

○ Wednesday—Thursday, March 17-18, 2010 (TBD).

○ Wednesday—Thursday, June 16-17, 2010 (TBD).

The meetings will be held at the following locations:

1. North American Electric Reliability Corporation, 866-740-1260.

2. Hilton Phoenix Airport, 2435 S. 47th Street, Phoenix, AZ 85034, 480-894-1600.

3. Arizona Grand Resort, 800 South Arizona Grand Parkway, Phoenix, AZ 85044, 602-438-9000.

4. Hyatt Regency Baltimore on the Inner Harbor, 300 Light Street, Baltimore, MD 21202, 410-605-2854.

Further information may be found at http://www.nerc.com.

The above-referenced meetings are open to the public.

For more information, contact Mary Agnes Nimis, Office of Electric Reliability, Federal Energy Regulatory Commission at (202) 502-8235 or maryagnes.nimis@ferc.gov or Nicholas Snyder, Office of Electric Reliability, Federal Energy Regulatory Commission at (202) 502-6408 or nicholas.snyder@ferc.gov.

Kimberly D. Bose,
Secretary.

[FR Doc. 2010-1676 Filed 1-27-10; 8:45 am]

BILLING CODE 6717-01-P